DEPARTMENT OF HOMELAND SECURITY

Federal Emergency Management Agency

[Docket ID: FEMA-2020-0014; OMB No. 1660-0132]

Agency Information Collection Activities: Proposed Collection; Comment Request; Consolidated FEMA-National Training and Education Division (NTED) Level 3 Training Evaluation Forms

AGENCY: Federal Emergency Management Agency, DHS.

ACTION: Notice and request for comments.

SUMMARY: The Federal Emergency Management Agency (FEMA), as part of its continuing effort to reduce paperwork and respondent burden, invites the general public to take this opportunity to comment on a reinstatement, with change, of a previously approved information collection for which approval has expired. In accordance with the Paperwork Reduction Act of 1995, this notice seeks comments concerning the use of the three separate Kirkpatrick Training Program Evaluation Level 3 instruments by three geographically separated National Training and Education (NTED) Training Organizations. The Training Partners Program Branch (TPP) located at FEMA Headquarters, The Center for Domestic Preparedness (CDP) located in Anniston AL, and The Emergency Management Institute (EMI) located at Emmitsburg, MD. While these three instruments contain five common questions or data sets other questions are required due to unique occupational and operational needs of their respective customers and the different course/program content or subject material that is designed to develop interoperable National Preparedness Core Capabilities, Community Lifelines, and/or Recovery Sector capabilities across and among various responder communities. Level 3 data is used to measure and monitor transfer or retention of knowledge, skills and abilities obtained during training to the students work environment and/or organizational work environment. Data collected is utilized to continuously improve course material, delivery and to inform key stakeholders on course/program performance in accordance with the GPRA Modernization Act of 2010.

DATES: Comments must be submitted on or before July 27, 2020.

ADDRESSES: Submit comments at www.regulations.gov under Docket ID FEMA-2020-0014. Follow the instructions for submitting comments.

All submissions received must include the agency name and Docket ID. All submissions will be posted, without change, to the Federal eRulemaking Portal at http://www.regulations.gov, and will include any personal information you provide. Therefore, submitting this information makes it public. You may wish to read the Privacy Act notice that is available via the link on the homepage of www.regulations.gov.

FOR FURTHER INFORMATION CONTACT: Samuel Phillips at Samuel.Phillips@fema.dhs.gov for questions regarding the new TPP Level 3 Post Course Assessment Form. Beverly Borden at Beverly.borden@fema.dhs.gov for questions on the two CDP Level 3 forms, and Dana Moats at Dana.Moat@fema.dhs.gov or Scott Vandermark at Scott.vandermark@fema.dhs.gov for questions or inquires on the EMI FEMA Follow-up Evaluation Survey. You may contact the Information Management Division for copies of the proposed collection of information at email address: FEMA-Information-Collections-Management@fema.dhs.gov.

SUPPLEMENTARY INFORMATION: In support of Presidential Policy Directive (PPD—8) National Preparedness, the National Preparedness Goal (NPG) and National Preparedness System (NPS) FEMA's NTED provides program oversight of three geographically separated training organizations: TPP in Washington, DC, CDP in Anniston, AL, and EMI in Emmitsburg, MD. These organizations with the National Domestic Preparedness Consortium (NDPC) and the Continuing Training Grant (CTG) members comprise the National Training and Education System (NTES) and are organized to optimize the 6 U.S.C. 748 required National Training Program on behalf of the FEMA Administrator in collaboration with other Federal agencies. Working collective as a NTES the training capabilities and capacity of the Nation increase the planning, capability and capacity to design, develop, deliver and evaluate training and education solutions to build sustainable and interoperable National Core Capabilities, Community Lifelines, and Recovery Sectors that prevent, protect, mitigate, respond and recover the Nation from acts of terrorism and natural disasters.

As member of the Federal Government FEMA's NTED and component organizations have developed these training evaluation instruments to measure their individual and collective program performance as required by the GPRA Modernization Act of 2010. Paragraph(a) of 31 U.S.C. 1115 covers Federal Government and Agency Performance Plans while paragraph (b) covers Agency Performance Plans (6) requires a balanced set of performance indicators to be used in measuring or assessing progress toward each performance goal, including, as appropriate, customer service, efficiency, output, and outcome indicators.

This information collection expired on February 28, 2019. FEMA is requesting a reinstatement, with change, of a previously approved information collection for which approval has expired.

Collection of Information

Title: Consolidated FEMA-National Training and Education Division (NTED) Level 3 Training Evaluation Forms.

Type of information collection: Reinstatement, with change, of a previously approved collection for which approval has expired.

OMB Number: 1660-0132.

Form Titles and Numbers: FEMA Form 016-0-2, Post Course Assessment National Training & Education Division, Training Partners Program (TPP); FEMA Form 092-0-2A, PER-220 Field Force Operations (FFO) Post-Graduate Questionnaire for Students; FEMA Form 092-0-2B, PER-220 Field Force Operations (FFO) Post-Graduate Training Evaluation for Supervisors; and FEMA Form 519-0-1, Emergency Management Institute (EMI): FEMA Follow-up Evaluation Survey.

Abstract: This data collection is required in support of GPRAMA 2010 Section 115 to provide National Preparedness Training Program performance evaluation data to FEMA; DHS Executives; Congress; and State, local, Tribal and territorial (SLTT) elected officials. This instrument is part of a larger training program evaluation collection that applies the Kirkpatrick Training Evaluation Model. Respondents include SLTT emergency responders from Law Enforcement, Emergency Medical and Public Health communities.

Affected Public: State, local, Tribal, and territorial employees. Others include non-profits and Federal Emergency Support Function Lead Agency employees.

Estimated Number of Respondents: 124,692.

Estimated Number of Responses: 124,692.

Estimated Total Annual Burden Hours: 31,174.

Estimated Total Annual Respondent Cost: $1,379,085.

Estimated Respondents' Operation and Maintenance Costs: N/A.

Estimated Respondents' Capital and Start-Up Costs: N/A.

Estimated Total Annual Cost to the Federal Government: $180,082.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-11185 Filed 5-22-20; 8:45 am]

BILLING CODE 9111-53-P